FEDERAL MARITIME COMMISSION

Ocean Transportation Intermediary License Applicants

Notice is hereby given that the following applicants have filed with the Federal Maritime Commission applications for licenses as Non-Vessel Operating Common Carrier and Ocean Freight Forwarder—Ocean Transportation Intermediaries pursuant to section 19 of the Shipping Act of 1984 as amended (46 U.S.C. app. 1718 and 46 CFR 515).

Persons knowing of any reason why any of the following applicants should not receive a license are requested to contact the Office of Freight Forwarders, Federal Maritime Commission, Washington, D.C. 20573.

Non-Vessel-Operating Common Carrier Ocean Transportation Intermediary Applicants:

Golden Bridge International, Inc., 755 North Nash Street, El Segundo, CA 90245, Officers: Jin Zhao, President, (Qualifying Individual), Cecilia Wong, Secretary

Impex Transport, Inc., 145-34 157th Street, Suite 210, Jamaica, NY 11434, Officer: Daniel Oh, President, (Qualifying Individual)

Vessel Agents, Inc., 434 Chelsea Street, East Boston, MA 02128, Officers: Karen E. Fuller, President, (Qualifying Individual), Gayle E. Fuller, Treasurer

W & L International Express, Inc., 1456 President Street, Glendale Heights, IL 60139, Officer: Long Wang, Officer, (Qualifying Individual)

Non-Vessel-Operating Common Carrier and Ocean Freight Forwarder

Transportation Intermediary Applicants:

Trans Global Projects, Inc., 2414 Morris Avenue, Union, NJ 07083, Officers: Rainer J. Luerssen, Secretary, (Qualifying Individual), Kaisar Ahmad, President

Districargo, Inc., 8015 N.W. 29th Street, Miami, FL 33122, Officers: Fernando Cobo, Treasurer, (Qualifying Individual), Astrid Flaherty, President

Ocean Freight Forwarders—Ocean Transportation Intermediary Applicants:

Cargoland Air & Ocean Cargo, Inc., 1790 N.W. 96 Avenue, Miami, FL 33172, Officer: Susana Olmo, President

Dated: February 11, 2000.
Bryant L. VanBrakle,
Secretary.

[FR Doc. 00-3678 Filed 2-15-00; 8:45 am]

BILLING CODE 6730-01-P